DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Mental Health Block Grant Ten Percent Set Aside Evaluation of First Episode Psychosis—NEW

The Substance Abuse and Mental Health Services Administration (SAMHSA) is directed by Congress through its FY 2016 Omnibus bill, Public Law 114-113, to set aside ten percent of the Mental Health Block Grant (MHBG) allocation for each state to support evidence-based programs that provide treatment for those with early serious mental illness (SMI) and a first episode psychosis (FEP)—an increase from the previous five percent set aside.

The purpose of this 3-year evaluation is to assess the relationship between fidelity of selected coordinated specialty care (CSC) programs supported with Mental Health Block Grant (MHBG) Ten Percent Set Aside funding and participant outcomes. There are approximately 250 sites implementing CSC programs with MHBG ten percent set aside funding. All 250 sites will be asked to report on their implementation through an online survey. Up to 32 CSC sites across the nation will be recruited to participate in a process and outcome evaluation. The data collection activities for the Mental Health Block Grant Ten Percent Set Aside Evaluation will include the following six data collection tools:

• Site Survey: This is a one-time online survey with site directors of all 250 centers using MHBG ten percent set aside funding (not just those included in the evaluation). The survey focuses on how centers across the U.S. are providing services to individuals with First Episode Psychosis (FEP) in their communities.

• State Mental Health Authority Interview: This is a one-time semi-structured interview with state mental health leadership in the states where the 32 sites in the evaluation are located. The interview focuses on their thoughts and opinions about context in which CSC programs are implemented within their state and the state's role in the implementation of the CSC programs.

• Agency Director/Administrator Interview: This semi-structured interview will be conducted twice with Agency Director/Administrators at each of the 32 CSC sites in the evaluation about the successes and challenges involved in implementing the CSC program.

• Coordinated Specialty Care (CSC) Staff Interview: This semi-structured interview will be conducted twice with CSC Staff at each of the 32 CSC sites in the evaluation about the successes and challenges involved in implementing the CSC program.

• Coordinated Specialty Care (CSC) Participant Interview: This semi-structured interview will be conducted twice with participants involved in programs at the 32 CSC sites in the evaluation. The purpose of the interview is to gather participant input on how CSC programs are operating and their thoughts and opinions about successes and challenges while participating in the CSC program.

• Fidelity Interview: This interview will be conducted twice during the evaluation with up to four CSC staff at each site. The phone interview is designed to be used in conjunction with the First Episode Psychosis Fidelity Scale (FEPS-FS) to examine whether elements of CSC are implemented at the sites.

In addition, each site will provide the evaluation team with administrative data on participant demographics and outcomes (e.g., employment status, educational status, diagnosis, living situation, quality of life, symptoms).

Table 1—Estimated Burden Hours
Respondent | Number of respondents | Number of responses per respondent | Total responses | Average burden per response (in hours) | Total burden (in hours)
State Department of Mental Health Representative: Telephone Interview | 32 | 1 | 32 | 2.0 | 64
CSC Site Directors across the country: Online survey | 250 | 1 | 250 | 0.2 | 50
Evaluation CSC Site: Program Director on-site interview | 64 | 1 | 64 | 2.0 | 128
Evaluation CSC Site: Program Staff on-site interview | 192 | 1 | 192 | 2.0 | 384
Evaluation CSC Site: Program Staff Fidelity Telephone Interview | 64 | 4 | 256 | 4.0 | 1,024
Evaluation CSC Site: Program Staff data submission | 32 | 18 | 576 | 5.0 | 2,880
Evaluation CSC Site: Program Participant on-site interview | 128 | 1 | 128 | 1.0 | 128
Total | 762 |  | 1,498 |  | 4,658

Written comments and recommendations concerning the proposed information collection should be sent by July 12, 2017 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2017-12091 Filed 6-9-17; 8:45 am]

BILLING CODE 4162-20-P